DEPARTMENT OF COMMERCE

International Trade Administration

[A-570-954, A-201-837]

Certain Magnesia Carbon Bricks from the People's Republic of China and Mexico: Initiation of Antidumping Duty Investigations

AGENCY: Import Administration, International Trade Administration, Department of Commerce.

EFFECTIVE DATE: August 25, 2009.

FOR FURTHER INFORMATION CONTACT: Terre Keaton Stefanova at (202) 482-1280 or David Goldberger at (202) 482-4136 (Mexico), AD/CVD Operations, Office 2; Jerry Huang at (202) 482-4047 or Paul Walker at (202) 482-0413 (China), AD/CVD Operations, Office 9, Import Administration, International Trade Administration, U.S. Department of Commerce, 14th Street and Constitution Avenue, NW, Washington, DC 20230.

SUPPLEMENTARY INFORMATION:

The Petitions

On July 29, 2009, the Department of Commerce (the “Department”) received petitions concerning imports of certain magnesia carbon bricks (“magnesia carbon bricks”) from the People's Republic of China (“PRC”) and Mexico filed in proper form by Resco Products, Inc. (“Petitioner”). See Petition for the Imposition of Antidumping Duties: Certain Magnesia Carbon Bricks from the People's Republic of China, dated July 29, 2009 (“AD PRC Petition”); Petition for the Imposition of Antidumping Duties: Certain Magnesia Carbon Bricks from Mexico, dated July 29, 2009 (“AD Mexico Petition”)(collectively, the “Petitions”). On August 4 and 12, 2009, the Department issued additional requests for information and clarification of certain areas of the Petitions. Based on the Department's requests, Petitioner timely filed additional information pertaining to the Petitions on August 10 and 14, 2009 (hereinafter, “Supplement to the AD PRC Petition,” and “Supplement to the AD Mexico Petition,” both dated August 10, 2009, and “Second Supplement to the AD PRC Petition,” and “Second Supplement to the AD Mexico Petition,” both dated August 14, 2009). The period of investigation (“POI”) for the PRC is January 1, 2009, through June 30, 2009. The POI for Mexico is July 1, 2008, through June 30, 2009. See 19 CFR 351.204(b)(1).

In accordance with section 732(b) of the Tariff Act of 1930, as amended (the “Act”), Petitioner alleges that imports of magnesia carbon bricks from the PRC and Mexico are being, or are likely to be, sold in the United States at less than fair value, within the meaning of section 731 of the Act, and that such imports are materially injuring, or threatening material injury to, an industry in the United States.

The Department finds that Petitioner filed the Petitions on behalf of the domestic industry because Petitioner is an interested party, as defined in section 771(9)(C) of the Act, and has demonstrated sufficient industry support with respect to the antidumping duty investigations that Petitioner is requesting the Department to initiate (see “Determination of Industry Support for the Petitions” section below).

Scope of Investigations

The products covered by these investigations are magnesia carbon bricks from the PRC and Mexico. For a full description of the scope of the investigations, please see the “Scope of Investigations,” in Appendix I of this notice.

Comments on Scope of Investigations

During our review of the Petitions, we discussed the scope with Petitioner to ensure that it is an accurate reflection of the products for which the domestic industry is seeking relief. Moreover, as discussed in the preamble to the regulations (Antidumping Duties; Countervailing Duties; Final Rule, 62 FR 27296, 27323 (May 19, 1997)), we are setting aside a period for interested parties to raise issues regarding product coverage. The Department encourages all interested parties to submit such comments by September 8, 2009.¹ Comments should be addressed to Import Administration's APO/Dockets Unit, Room 1870, U.S. Department of Commerce, 14th Street and Constitution Avenue, NW, Washington, DC 20230. The period of scope consultations is intended to provide the Department with ample opportunity to consider all comments and to consult with parties prior to the issuance of the preliminary determinations.

¹ September 8, 2009, is the first business day after twenty calendar days from the signature date of this notice.

Comments on Product Characteristics for Antidumping Duty Questionnaires

We are requesting comments from interested parties regarding the appropriate physical characteristics of magnesia carbon bricks to be reported in response to the Department's antidumping questionnaires. This information will be used to identify the key physical characteristics of the merchandise under consideration in order to more accurately report the relevant factors and costs of production, as well as to develop appropriate product comparison criteria.

Interested parties may provide information or comments that they believe are relevant to the development of an accurate listing of physical characteristics. Specifically, they may provide comments as to which characteristics are appropriate to use as: 1) general product characteristics; and 2) the product comparison criteria. We note that it is not always appropriate to use all product characteristics as product comparison criteria. We base product comparison criteria on meaningful commercial differences among products. In other words, while there may be some physical product characteristics utilized by manufacturers to describe magnesia carbon bricks, it may be that only a select few product characteristics take into account commercially meaningful physical characteristics. In addition, interested parties may comment on the order in which the physical characteristics should be used in product matching. Generally, the Department attempts to list the most important physical characteristics first and the least important characteristics last.

In order to consider the suggestions of interested parties in developing and issuing the antidumping duty questionnaires, we must receive comments at the above-referenced address by September 8, 2009. Additionally, rebuttal comments must be received by September 15, 2009.

Determination of Industry Support for the Petitions

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) poll the industry or rely on other information in order to determine if there is support for the petition, as required by subparagraph (A); or (ii) determine industry support using a statistically valid sampling method.

Section 771(4)(A) of the Act defines the “industry” as the producers as a whole of a domestic like product. Thus, to determine whether a petition has the requisite industry support, the statute directs the Department to look to producers and workers who produce the domestic like product. The International Trade Commission (“ITC”), which is responsible for determining whether “the domestic industry” has been injured, must also determine what constitutes a domestic like product in order to define the industry. While both the Department and the ITC must apply the same statutory definition regarding the domestic like product (see section 771(10) of the Act), they do so for different purposes and pursuant to a separate and distinct authority. In addition, the Department's determination is subject to limitations of time and information. Although this may result in different definitions of the like product, such differences do not render the decision of either agency contrary to law. See USEC, Inc. v. United States, 132 F. Supp. 2d 1, 8 (Ct. Int'l Trade 2001), citing Algoma Steel Corp., Ltd. v. United States, 688 F. Supp. 639, 644 (Ct. Int'l Trade 1988), aff'd 865 F.2d 240 (Fed. Cir. 1989), cert. denied 492 U.S. 919 (1989).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, Petitioner does not offer a definition of domestic like product distinct from the scope of the investigations. Based on our analysis of the information submitted on the record, we have determined that magnesia carbon bricks constitute a single domestic like product and we have analyzed industry support in terms of that domestic like product. For a discussion of the domestic like product analysis in this case, see Antidumping Duty Investigation Initiation Checklist: Magnesia Carbon Bricks from the PRC (“PRC Initiation Checklist”) at Attachment II, Analysis of Industry Support for the Petitions Covering Certain Magnesia Carbon Bricks from the People's Republic of China and Mexico, and Antidumping Duty Investigation Initiation Checklist: Magnesia Carbon Bricks from Mexico (“Mexico Initiation Checklist”) at Attachment II, Analysis of Industry Support for the Petitions Covering Certain Magnesia Carbon Bricks from the People's Republic of China and Mexico, dated concurrently with this notice and on file in the Central Records Unit (“CRU”), Room 1117 of the main Department of Commerce building.

In determining whether Petitioner has standing under section 732(c)(4)(A) of the Act, we considered the industry support data contained in the Petitions with reference to the domestic like product as defined in the “Scope of Investigations”, in Appendix I of this notice. To establish industry support, Petitioner provided its own 2008 production of the domestic like product, as well as the production of the two supporters of the Petitions, and compared this to the estimated total production of the domestic like product for the entire domestic industry. See Petitions, at Exhibits 2-4, Supplement to the AD PRC Petition, Supplement to the AD Mexico Petition, dated August 10, 2009, at 8-12, and Exhibits R2-R-6, Second Supplement to the AD PRC Petition, and Second Supplement to the AD Mexico Petition, dated August 14, 2009, at 1-2. Petitioner estimated total 2008 production of the domestic like product based on its own production data, data from the two supporters of the Petitions, and knowledge of the U.S. industry. See Petitions, at Exhibits 2-4, Supplement to the AD PRC Petition, Supplement to the AD Mexico Petition, dated August 10, 2009, at 8-12, and Exhibits R2-R-6, Second Supplement to the AD PRC Petition, and Second Supplement to the AD Mexico Petition, dated August 14, 2009, at 1-2; see also PRC Initiation Checklist at Attachment II, and Mexico Initiation Checklist at Attachment II.

Our review of the data provided in the Petitions, supplemental submissions, and other information readily available to the Department indicates that Petitioner has established industry support. First, the Petitions established support from domestic producers (or workers) accounting for more than 50 percent of the total production of the domestic like product and, as such, the Department is not required to take further action in order to evaluate industry support (e.g., polling). See section 732(c)(4)(D) of the Act; see also PRC Initiation Checklist at Attachment II, and Mexico Initiation Checklist at Attachment II. Second, the domestic producers (or workers) have met the statutory criteria for industry support under section 732(c)(4)(A)(i) of the Act because the domestic producers (or workers) who support the Petitions account for at least 25 percent of the total production of the domestic like product. See PRC Initiation Checklist at Attachment II, and Mexico Initiation Checklist at Attachment II. Finally, the domestic producers (or workers) have met the statutory criteria for industry support under section 732(c)(4)(A)(ii) of the Act because the domestic producers (or workers) who support the Petitions account for more than 50 percent of the production of the domestic like product produced by that portion of the industry expressing support for, or opposition to, the Petitions. Accordingly, the Department determines that the Petitions were filed on behalf of the domestic industry within the meaning of section 732(b)(1) of the Act. See id.

The Department finds that Petitioner filed the Petitions on behalf of the domestic industry because it is an interested party as defined in section 771(9)(C) of the Act and it has demonstrated sufficient industry support with respect to the antidumping duty investigations that it is requesting the Department initiate. See id.

Allegations and Evidence of Material Injury and Causation

Petitioner alleges that the U.S. industry producing the domestic like product is being materially injured, or is threatened with material injury, by reason of the imports of the subject merchandise sold at less than normal value (“NV”). In addition, Petitioner alleges that subject imports exceed the negligibility threshold provided for under section 771(24)(A) of the Act.

Petitioner contends that the industry's injured condition is illustrated by reduced market share, underselling and price depressing and suppressing effects, increased import penetration, lost sales and revenue, reduced production, reduced capacity utilization, reduced shipments, reduced employment, and overall poor financial performance. We have assessed the allegations and supporting evidence regarding material injury, threat of material injury, and causation, and we have determined that these allegations are properly supported by adequate evidence and meet the statutory requirements for initiation. See PRC Initiation Checklist at Attachment III, Analysis of Allegations and Evidence of Material Injury and Causation for the Petitions Covering Certain Magnesia Carbon Bricks from the People's Republic of China and Mexico, and Mexico Initiation Checklist at Attachment III, Analysis of Allegations and Evidence of Material Injury and Causation for the Petitions Covering Certain Magnesia Carbon Bricks from the People's Republic of China and Mexico.

Allegations of Sales at Less Than Fair Value

The following is a description of the allegations of sales at less than fair value upon which the Department based its decision to initiate these investigations of imports of magnesia carbon bricks from the PRC and Mexico. The sources of data for the deductions and adjustments relating to the U.S. price, the factors of production (for the PRC) and constructed value (“CV”) (for Mexico) are also discussed in the country-specific initiation checklists. See PRC Initiation Checklist and Mexico Initiation Checklist.

U.S. Price

The PRC

For the PRC, Petitioner calculated export price (“EP”) based on documentation of actual sales and offers for sale obtained from a confidential source. See PRC Initiation Checklist; see also AD PRC Petition at Exhibit 11, and Second Supplement to the AD PRC Petition, dated August 14, 2009, at 4. Petitioner made adjustments for distributor mark-ups, international freight and U.S. movement expenses. See PRC Initiation Checklist; see also Second Supplement to the AD PRC Petition, at Exhibit R-11.

Mexico

For Mexico, Petitioner based U.S. price on POI prices of magnesia carbon bricks produced by the Mexican manufacturer RHI-Refmex S.A. de C.V. (“RHI-Refmex”). Petitioner substantiated the U.S. prices used with affidavits from persons who obtained the information. Petitioner believes that these prices include selling expenses incurred by RHI-Refmex's U.S. affiliate but conservatively assumed such expenses to be zero in its calculation of net U.S. price. Petitioner deducted, where appropriate, freight expenses (U.S. inland freight), but made no other adjustments. See Mexico Initiation Checklist; see also AD Mexico Petition at 15, Supplement to the AD Mexico Petition, at 21 and Exhibits R-8, R-10 and R-11, and Second Supplement to the AD Mexico Petition, at 3.

Normal Value

The PRC

Petitioner states that the PRC is a non-market economy (“NME”) country and no determination to the contrary has been made by the Department. See AD PRC Petition, at 14. In accordance with section 771(18)(C)(i) of the Act, the presumption of NME status remains in effect until revoked by the Department. The presumption of NME status for the PRC has not been revoked by the Department and, therefore, remains in effect for purposes of the initiation of this investigation. Accordingly, the NV of the product for the PRC investigation is appropriately based on factors of production valued in a surrogate market-economy country in accordance with section 773(c) of the Act. In the course of the PRC investigation, all parties, including the public, will have the opportunity to provide relevant information related to the issue of the PRC's NME status and the granting of separate rates to individual exporters.

Petitioner contends that India is the appropriate surrogate country for the PRC because: 1) it is at a level of economic development comparable to that of the PRC; and 2) it is a significant producer of comparable merchandise; and 3) information required to calculate unit factor costs and financial ratios is readily available. See AD PRC Petition at 14-16, and Exhibit 10. Based on the information provided by Petitioner, we believe that it is appropriate to use India as a surrogate country for initiation purposes. After initiation of the investigation, interested parties will have the opportunity to submit comments regarding surrogate country selection and, pursuant to 19 CFR 351.301(c)(3)(i), will be provided an opportunity to submit publicly available information to value factors of production within 40 days after the date of publication of the preliminary determination.

Petitioner calculated the NV and dumping margins using the Department's NME methodology as required by 19 CFR 351.202(b)(7)(i)(C) and 19 CFR 351.408. Petitioner calculated NV based on its own consumption rates for producing magnesia carbon bricks in 2008. See AD PRC Petition at 17, and Exhibit 12. In calculating NV, Petitioner based the quantity of each of the inputs used to manufacture and pack magnesia carbon bricks in the PRC on its own industry knowledge and production experience during the POI. See AD PRC Petition at 17, and Exhibit 12. Petitioner states that the actual usage rates of the foreign manufacturers of magnesia carbon bricks are not reasonably available; however, Petitioner notes that to the best of Petitioner's knowledge, the production of magnesia carbon bricks in China relies on similar basic manufacturing processes as in the United States. See AD PRC Petition at 17.

Petitioner determined the consumption quantities of all raw materials and packing materials based on its own production experience. See AD PRC Petition at 17, and Exhibit 12. Petitioner valued the factors of production based on reasonably available, public surrogate country data, specifically, Indian import statistics from the World Trade Atlas (“WTA”). See Supplement to the AD PRC Petition, at Exhibit R-8. Petitioner excluded from these import statistics imports from countries previously determined by the Department to be NME countries and from Indonesia, the Republic of Korea, and Thailand as the Department has previously excluded prices from these countries because they maintain broadly available, non-industry-specific export subsidies. See id. In addition, the Petitioner made currency conversions, where necessary, based on the POI-average rupee/U.S. dollar exchange rate, as reported on the Department's website. See Supplement to the AD PRC Petition, at 16 and Exhibit R-8. Petitioner determined labor costs using the labor consumption, in hours, derived from its own experience. See AD PRC Petition at Exhibit 12. Petitioner valued labor costs using the Department's NME Wage Rate for the PRC at http://ia.ita.doc.gov/wages/05wages/05wages-051608.html. See Supplement to the AD PRC Petition, at Exhibit R-8. For purposes of initiation, the Department determines that the surrogate values used by Petitioner are reasonably available and, thus, acceptable for purposes of initiation.

Petitioner determined electricity costs using the electricity consumption, in kilowatt hours, derived from its own experience. See AD PRC Petition at Exhibit 12. Petitioner valued electricity using the Indian electricity rate reported by the Central Electric Authority of the Government of India. See Supplement to the AD PRC Petition, at 16 and Exhibit R-8.

Petitioner determined natural gas costs using the natural gas consumption derived from its own experience. See AD PRC Petition at Exhibit 12. Petitioner valued natural gas using Indian import statistics from WTA. See Supplement to the AD PRC Petition, at Exhibit R-8.

Petitioner based factory overhead, selling, general and administrative (“SG&A”), and profit on data from IFGL Refractories Ltd. (“IFGL”), a producer of refractory products, for the fiscal year April 2007 through March 2008. See AD PRC Petition at Exhibit 13. Petitioner states that, as a manufacturer of non-subject products within the same general category of merchandise as magnesia carbon bricks, IFGL's main operation in India can be considered a reasonable surrogate. See Supplement to the AD PRC Petition, at 17-18. Therefore, for purposes of the initiation, the Department finds Petitioner's use of IFGL's unconsolidated financial ratios appropriate.

Mexico

Petitioner calculated NV for magnesia carbon bricks using CV because Petitioner was unable to obtain home market or third country prices. See AD Mexico Petition at 13.

Pursuant to section 773(e) of the Act, CV consists of the cost of manufacturing (“COM”), SG&A expenses, packing expenses, and profit. In calculating COM and packing, Petitioner based the quantity of each of the inputs used to manufacture and pack magnesia carbon bricks in Mexico on its own production experience during 2008. See AD Mexico Petition at 14, and Exhibits 9 and 11, Supplement to the AD Mexico Petition, at Exhibit R-9, and Second Supplement to the AD Mexico Petition, at Exhibit R-14. Petitioner notes that, to the best of its knowledge, the magnesia carbon bricks manufacturing process in Mexico is very similar to its magnesia carbon bricks manufacturing process. Accordingly, Petitioner states that it is reasonable to estimate the Mexican producer's usage rates based on its own usage rates experienced in producing magnesia carbon bricks. Petitioner also states that certain “brands” (i.e., models) of RHI-Refmex's magnesia carbon bricks are identical or very similar to its corresponding brands in terms of quantity and type of raw materials used, energy consumed, and the composition of the finished product. See AD Mexico Petition at 14 and 15, and Supplement to the AD Mexico Petition, at 14 and Exhibit R-9.

Petitioner multiplied the usage quantities of the inputs used to manufacture and pack magnesia carbon bricks by the Mexican values of those inputs based on publicly available data. See AD Mexico Petition, at 15 and Exhibit 10, Supplement to the AD Mexico Petition, at Exhibit R-8, and Second Supplement to the AD Mexico Petition, at Exhibit R-14.

Raw materials (e.g., magnesite) are significant inputs used in the production of magnesia carbon bricks. Petitioner determined the consumption quantities of all raw materials and packing materials based on its own production experience. See AD Mexico Petition, at 14, and Exhibits 9 and 11, and Supplement to the AD Mexico Petition, at Exhibit R-9. Petitioner valued all raw materials and packing materials using Mexican import statistics as reflected in the WTA data for the period from June 2008 through May 2009, the most recent data available. Petitioner excluded from these import statistics imports from countries previously determined by the Department to be NME countries and from India, Indonesia, the Republic of Korea, and Thailand, as the Department has previously excluded prices from these countries because they maintain broadly available, non-industry-specific export subsidies. See AD Mexico Petition at Exhibit 10, and Supplement to the AD Mexico Petition, at Exhibit R-8.

Petitioner determined labor costs using the labor consumption in hours derived from its own experience. Petitioner relied on Mexican wage rate data available from the Import Administration website at http://ia.ita.doc.gov/wages to determine the average wage rate in Mexico. See AD Mexico Petition at 15, and Supplement to the AD Mexico Petition, at 17.

Petitioner determined the costs of electricity and natural gas using consumption amounts derived from its own experience. Petitioner valued electricity using the POI Mexican electricity rates for medium-sized enterprises reported by the Mexico Secretary of Energy at http://www.sener.gob.mx. Petitioner converted the Mexican electricity rates into U.S. dollars using the Department's POI exchange rates. Petitioner valued natural gas using Mexican import statistics as reflected in the WTA data for the period from June 2008 through May 2009, the most recent data available. See AD Mexico Petition at Exhibit 10, and Supplement to the AD Mexico Petition, at 18 and Exhibit R-8.

To calculate factory overhead, SG&A expenses, and profit, Petitioner relied on the financial statements of a Mexican producer of ceramic products, Grupo Lamosa, S.A.B. de C.V., a company that produces products in the same general category of merchandise as magnesia carbon bricks. See Supplement to the AD Mexico Petition, at Exhibit R-8, and Second Supplement to the AD Mexico Petition, at Exhibit R-13. See also Mexico Initiation Checklist.

Fair-Value Comparisons

Based on the data provided by Petitioner, there is reason to believe that imports of magnesia carbon bricks from the PRC and Mexico are being, or are likely to be, sold in the United States at less than fair value. Based on a comparison of U.S. prices and NV calculated in accordance with section 773(c) of the Act, the estimated dumping margins for magnesia carbon bricks from the PRC range from 112 percent to 349 percent. See PRC Initiation Checklist. Based on a comparison of U.S. price and CV calculated in accordance with section 773(a)(4) of the Act, the estimated dumping margins for magnesia carbon bricks from Mexico range from 153 percent to 295 percent. See Mexico Initiation Checklist; see also Supplement to the AD Mexico Petition, at Exhibit R-10, and Second Supplement to the AD Mexico Petition, at Exhibit R-14 and R-15.

Initiation of Antidumping Investigations

Based upon the examination of the Petitions on magnesia carbon bricks from the PRC and Mexico, the Department finds that the Petitions meet the requirements of section 732 of the Act. Therefore, we are initiating antidumping duty investigations to determine whether imports of magnesia carbon bricks from the PRC and Mexico are being, or are likely to be, sold in the United States at less than fair value. In accordance with section 733(b)(1)(A) of the Act and 19 CFR 351.205(b)(1), unless postponed, we will make our preliminary determinations no later than 140 days after the date of this initiation.

Targeted-Dumping Allegations

On December 10, 2008, the Department issued an interim final rule for the purpose of withdrawing 19 CFR 351.414(f) and (g), the regulatory provisions governing the targeted- dumping analysis in antidumping duty investigations, and the corresponding regulation governing the deadline for targeted-dumping allegations, 19 CFR 351.301(d)(5). See Withdrawal of the Regulatory Provisions Governing Targeted Dumping in Antidumping Duty Investigations, 73 FR 74930 (December 10, 2008). The Department stated that “{w}ithdrawal will allow the Department to exercise the discretion intended by the statute and, thereby, develop a practice that will allow interested parties to pursue all statutory avenues of relief in this area.” See id. at 74931.

In order to accomplish this objective, if any interested party wishes to make a targeted- dumping allegation in any of these investigations pursuant to section 777A(d)(1)(B) of the Act, such allegations are due no later than 45 days before the scheduled date of the country-specific preliminary determination.

Respondent Selection

The PRC

For this investigation, the Department will request quantity and value information from all known exporters and producers identified with complete contact information in the AD PRC Petition. The quantity and value data received from NME exporters/producers will be used as the basis to select the mandatory respondents.

The Department requires that the respondents submit a response to both the quantity and value questionnaire and the separate-rate application by the respective deadlines in order to receive consideration for separate-rate status. See Circular Welded Austenitic Stainless Pressure Pipe from the People's Republic of China: Initiation of Antidumping Duty Investigation, 73 FR 10221, 10225 (February 26, 2008); Initiation of Antidumping Duty Investigation: Certain Artist Canvas From the People's Republic of China, 70 FR 21996, 21999 (April 28, 2005). The Department will post the quantity and value questionnaire along with the filing instructions on the Import Administration website at http://ia.ita.doc.gov/ia-highlights-and-news.html, and a response to the quantity and value questionnaire is due no later than September 10, 2009. Also, the Department will send the quantity and value questionnaire to those PRC companies identified in the AD PRC Petition, at Exhibit 9.

Mexico

For this investigation, the Department intends to select respondents based on U.S. Customs and Border Protection (“CBP”) data for U.S. imports under the Harmonized Tariff Schedule of the United States (“HTSUS”) numbers 6902.10.10.00 and 6902.10.50.00, the two HTSUS categories most specific to the subject merchandise, during the POI. We intend to release the CBP data under Administrative Protective Order (“APO”) to all parties with access to information protected by APO within five days of publication of this Federal Register notice and make our decision regarding respondent selection within 20 days of publication of this notice. The Department invites comments regarding the CBP data and respondent selection within ten days of publication of this Federal Register notice.

Interested parties must submit applications for disclosure under APO in accordance with 19 CFR 351.305. Instructions for filing such applications may be found on the Department's website at http://ia.ita.doc.gov/apo.

Separate Rates

In order to obtain separate-rate status in NME investigations, exporters and producers must submit a separate-rate status application. See our practice, described in Policy Bulletin 05.1: Separate-Rates Practice and Application of Combination Rates in Antidumping Investigations involving Non-Market Economy Countries, dated April 5, 2005 (“Separate Rates and Combination Rates Bulletin”), available on the Department's website at http://ia.ita.doc.gov/policy/bull05-1.pdf. Based on our experience in processing the separate-rate applications in previous antidumping duty investigations, we have modified the application for this investigation to make it more administrable and easier for applicants to complete. See, e.g., Initiation of Antidumping Duty Investigation: Certain New Pneumatic Off-the-Road Tires From the People's Republic of China, 72 FR 43591, 43594-95 (August 6, 2007). The specific requirements for submitting the separate-rate application in this investigation are outlined in detail in the application itself, which will be available on the Department's website at http://ia.ita.doc.gov/ia-highlights-and-news.html on the date of publication of this initiation notice in the Federal Register. The separate-rate application will be due 60 days after publication of this initiation notice. For exporters and producers who submit a separate-rate status application and subsequently are selected as mandatory respondents, these exporters and producers will no longer be eligible for consideration for separate rate status unless they respond to all parts of the questionnaire as mandatory respondents. As noted in the “Respondent Selection” section above, the Department requires that respondents submit a response to both the quantity and value questionnaire and the separate rate application by the respective deadlines in order to receive consideration for separate-rate status. The quantity and value questionnaire will be available on the Department's website at http://ia.ita.doc.gov/ia-highlights-and-news.html on the date of the publication of this initiation notice in the Federal Register.

Use of Combination Rates in an NME Investigation

The Department will calculate combination rates for certain respondents that are eligible for a separate rate in this investigation. The Separate Rates and Combination Rates Bulletin states:

{w}hile continuing the practice of assigning separate rates only to exporters, all separate rates that the Department will now assign in its NME investigations will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.

See Separate Rates and Combination Rates Bulletin at 6 (emphasis added).

Distribution of Copies of the Petitions

In accordance with section 732(b)(3)(A) of the Act and 19 CFR 351.202(f), copies of the public versions of the Petitions have been provided to the representatives of the Governments of the PRC and Mexico. Because of the large number of producers/exporters identified in the AD PRC Petition, the Department considers the service of the public version of the AD PRC Petition to the foreign producers/exporters satisfied by the delivery of the public version to the Government of the PRC, consistent with 19 CFR 351.203(c)(2).

ITC Notification

We have notified the ITC of our initiations, as required by section 732(d) of the Act.

Preliminary Determinations by the ITC

The ITC will preliminarily determine, no later than September 14, 2009, whether there is a reasonable indication that imports of magnesia carbon bricks from the PRC and Mexico are materially injuring, or threatening material injury to a U.S. industry. A negative ITC determination with respect to any country will result in the investigation being terminated for that country; otherwise, these investigations will proceed according to statutory and regulatory time limits.

This notice is issued and published pursuant to section 777(i) of the Act.

Dated: August 18, 2009.
Carole Showers,
Acting Deputy Assistant Secretary for Policy and Negotiations.

Appendix I

Scope of the Investigations

Imports covered by this petition consist of certain chemically bonded (resin or pitch), magnesia carbon bricks with a magnesia component of at least 70 percent magnesia (“MgO”) by weight, regardless of the source of raw materials for the MgO, with carbon levels ranging from trace amounts to 30 percent by weight, regardless of enhancements, (for example, magnesia carbon bricks can be enhanced with coating, grinding, tar impregnation or coking, high temperature heat treatments, anti-slip treatments or metal casing) and regardless of whether or not anti-oxidants are present (for example, antioxidants can be added to the mix from trace amounts to 15 percent by weight as various metals, metal alloys, and metal carbides). Certain magnesia carbon bricks that are the subject of this investigation are currently classifiable under subheadings 6902.10.10.00, 6902.10.50.00, 6815.91.00.00, and 6815.99 of the Harmonized Tariff Schedule of the United States (HTSUS). While HTSUS subheadings are provided for convenience and customs purposes, the written description is dispositive.

[FR Doc. E9-20494 Filed 8-24-09; 8:45 am]

BILLING CODE 3510-DS-S